DEPARTMENT OF THE INTERIOR

Bureau of Land Management

[LLMT921000-09-L13200000-EL0000-P; MTM 99242]

Notice of Invitation—Coal Exploration License Application MTM 99242

AGENCY: Bureau of Land Management, Interior.

ACTION: Notice.

SUMMARY: Members of the public are hereby invited to participate with Western Energy Company in a program for the exploration of coal deposits owned by the United States of America in lands located in Rosebud County, Montana, encompassing 2,533.88 acres. The authority for the notice is section 2(b) of the Mineral Leasing Act of 1920, as amended by section 4 of the Federal Coal Leasing Amendments Act of 1976, 30 U.S.C. 201(b), and the regulations adopted at 43 CFR part 3410.

FOR FURTHER INFORMATION CONTACT: Robert Giovanini, Mining Engineer, or Connie Schaff, Land Law Examiner, Branch of Solid Minerals (MT-921), Bureau of Land Management (BLM), Montana State Office, 5001 Southgate Drive, Billings, Montana 59101-4668, telephone (406) 896-5084 or (406) 896-5060, respectively.

SUPPLEMENTARY INFORMATION: The lands to be explored for coal deposits are described as follows:

T. 1 N., R. 40 E., P.M.M.

Sec. 26: All

Sec. 28: All

Sec. 34: Lots 1-4, N½, N½S½

T. 1 S., R. 41 E., P. M.M.

Sec. 6: Lots 1-7, S½NE¼, SE¼NW¼, E½SW¼, SE¼

Any party electing to participate in this exploration program shall notify, in writing, both the State Director, BLM, 5001 Southgate Drive, Billings, Montana 59101-4669, and Western Energy Company, P.O. Box 99, Colstrip, Montana 59323. Such written notice must refer to serial number MTM 99242 and be received no later than 30 calendar days after publication of this Notice in the Federal Register or 10 calendar days after the last publication of this Notice in the Independent Press newspaper, whichever is later. This Notice will be published once a week for two consecutive weeks in the Independent Press, Forsyth, Montana.

The proposed exploration program is fully described, and may be conducted pursuant to an exploration plan subject to approval by the BLM. The exploration plan, as submitted by Western Energy Company, is available for public inspection at the BLM, 5001 Southgate Drive, Billings, Montana, during regular business hours (9 a.m. to 4 p.m.), Monday through Friday.

Phillip C. Perlewitz,
Chief, Branch of Solid Minerals.

[FR Doc. E9-31243 Filed 1-4-10; 8:45 am]

BILLING CODE 4310-$$-P